DEPARTMENT OF COMMERCE

National Oceanic and Atmospheric Administration

RIN 0648-XD131

Takes of Marine Mammals Incidental to Specified Activities; Taking Marine Mammals Incidental to Construction of the Block Island Transmission System

AGENCY: National Marine Fisheries Service (NMFS), National Oceanic and Atmospheric Administration (NOAA), Commerce.

ACTION: Notice; issuance of revised incidental harassment authorization.

SUMMARY: In accordance with regulations implementing the Marine Mammal Protection Act (MMPA), notification is hereby given that NMFS has issued a revised Incidental Harassment Authorization (IHA) to The Narragansett Electric Company, doing business as National Grid (TNEC), to take marine mammals, by harassment, incidental to construction of the Block Island Transmission System (BITS).

DATES: Effective November 1, 2014, through October 31, 2015.

ADDRESSES: A copy of the revised IHA is available by writing to Jolie Harrison, Chief, Permits and Conservation Division, Office of Protected Resources, National Marine Fisheries Service, 1315 East-West Highway, Silver Spring, MD 20910.

An electronic copy of the revised IHA may be obtained by visiting the internet at: http://www.nmfs.noaa.gov/pr/permits/incidental/.

FOR FURTHER INFORMATION CONTACT: John Fiorentino, Office of Protected Resources, NMFS, (301) 427-8477.

SUPPLEMENTARY INFORMATION:

Background

Sections 101(a)(5)(A) and (D) of the MMPA (16 U.S.C. 1361 et seq.) direct the Secretary of Commerce to allow, upon request, the incidental, but not intentional, taking of small numbers of marine mammals by U.S. citizens who engage in a specified activity (other than commercial fishing) within a specified geographical region if certain findings are made and either regulations are issued or, if the taking is limited to harassment, a notice of a proposed authorization is provided to the public for review.

An authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth.

Summary of Request

On August 22, 2014, NMFS issued an IHA to Deepwater Wind Block Island Transmission, LLC (DWBIT) to take marine mammals, by Level B harassment, incidental to construction of the BITS, effective from November 1, 2014 through October 31, 2015 (79 FR 51314). On January 30, 2015, DWBIT sold the BITS, in its entirety, to TNEC. The BITS, a bi-directional submarine transmission cable, will interconnect Block Island to TNEC's existing distribution system in Narragansett, Rhode Island. To date, no construction has occurred.

DWBIT and TNEC subsequently submitted a written request to transfer the current IHA from DWBIT to TNEC. With the transfer of the BITS IHA, TNEC agrees to comply with the associated terms, conditions, stipulations, and restrictions of the original BITS IHA. No other changes were requested. The revised IHA remains effective from November 1, 2014, through October 31, 2015.

This Federal Register notice sets forth only a change in the BITS IHA holder's name. There are no other changes to the current IHA as described in the August 28, 2014, Federal Register notice of a final IHA (79 FR 51314): the specified activity; description of marine mammals in the area of the specified activity; potential effects on marine mammals and their habitat; mitigation and related monitoring used to implement mitigation; reporting; estimated take by incidental harassment; negligible impact and small numbers analyses and determinations; impact on availability of affected species or stocks for subsistence uses and the period of effectiveness remain unchanged and are herein incorporated by reference.

Revision to BITS IHA

NMFS is changing the name of the holder of the BITS IHA from “Deepwater Wind Block Island Transmission, LLC, 56 Exchange Terrace, Suite 101, Providence, Rhode Island, 02903” to “The Narragansett Electric Company, d/b/a National Grid, 40 Sylvan Road, Waltham, Massachusetts, 02451.”

Comments and Responses

NMFS published a notice of the proposed revised IHA and request for public comments in the Federal Register on April 13, 2015 (80 FR 19639). In a letter dated April 30, 2015, the Marine Mammal Commission concurred with the proposed transfer of the BITS IHA. NMFS did not receive any other comments during the 30-day public comment period.

Dated: June 8, 2015.
Donna S. Weiting,
Director, Office of Protected Resources, National Marine Fisheries Service.

[FR Doc. 2015-14310 Filed 6-11-15; 8:45 am]

BILLING CODE 3510-22-P